DEPARTMENT OF HOMELAND SECURITY

Coast Guard

33 CFR Part 100

[Docket No. USCG-2022-0063]

Special Local Regulation; Fort Lauderdale Air Show, Atlantic Ocean, Fort Lauderdale Beach, FL

AGENCY: Coast Guard, DHS.

ACTION: Notice of enforcement of regulation.

SUMMARY: The Coast Guard will enforce a special local regulation for the Fort Lauderdale Air Show to provide for the safety of life on navigable waterways during this event. During the enforcement periods, the operator of any vessel in the regulated area must comply with directions from the Patrol Commander or any Official Patrol displaying a Coast Guard ensign.

DATES: The regulation in 33 CFR 100.702, Table 1 to § 100.702, Item 3, will be enforced from 9 a.m. to 6 p.m., each day from April 29, 2022 through May 1, 2022.

FOR FURTHER INFORMATION CONTACT: If you have questions about this notice of enforcement, call or email Mr. Omar Beceiro, Sector Miami Waterways Management Division, U.S. Coast Guard: Telephone: 305-535-4317, Email: Omar.Beceiro@uscg.mil.

SUPPLEMENTARY INFORMATION: The Coast Guard will enforce a special local regulation in 33 CFR 100.702, Table 1 to § 100.702, Item 3, for the Fort Lauderdale Air Show, from 9 a.m. to 6 p.m., each day from Friday April 29, 2022 through Sunday May 1, 2022. The Coast Guard is taking this action to provide for the safety of life on navigable waterways during the event. Our regulation for recurring marine events, Sector Miami, 33 CFR 100.702, Table 1 to § 100.702, Item 3, specifies the location of the regulated area which encompasses a portion of Atlantic Ocean east of Fort Lauderdale Beach. Only event sponsor designated participants and official patrol vessels will be allowed to enter the regulated area. During the enforcement periods, as reflected in § 100.702, if you are the operator of a vessel in the regulated area you must comply with directions from the Patrol Commander or any Official Patrol displaying a Coast Guard ensign.

In addition to this notice of enforcement in the Federal Register, the Coast Guard plans to provide notification of this enforcement period via the Local Notice to Mariners and marine information broadcasts.

Dated: March 22, 2022.
J. F. Burdian,
Captain, U.S. Coast Guard, Captain of the Port Miami.

[FR Doc. 2022-06301 Filed 3-24-22; 8:45 am]

BILLING CODE 9110-04-P